DEPARTMENT OF ENERGY

Federal Energy Regulatory Commission

Combined Notice of Filings #1

Take notice that the Commission received the following electric corporate filings:

¹ Emailed comments dated 6/17/25 from Robert E. Rutkowski.

² Emailed comments dated 6/19/25 from Robert E. Rutkowski.

³ Emailed comments dated 6/17/25 from Lucy Harrington of the Minnesota State Historic Preservation Office.

Docket Numbers: EC25-107-000.

Applicants: Angiola East, LLC.

Description: Application for Authorization Under Section 203 of the Federal Power Act of Angiola East, LLC.

Filed Date: 6/27/25.

Accession Number: 20250627-5308.

Comment Date: 5 p.m. ET 7/18/25.

Take notice that the Commission received the following exempt wholesale generator filings:

Docket Numbers: EG25-366-000.

Applicants: Kelso 2 Solar LLC.

Description: Kelso 2 Solar LLC submits Notice of Self-Certification of Exempt Wholesale Generator Status.

Filed Date: 6/27/25.

Accession Number: 20250627-5305.

Comment Date: 5 p.m. ET 7/18/25.

Docket Numbers: EG25-367-000.

Applicants: Mowata Solar, LLC.

Description: Mowata Solar, LLC submits Notice of Self-Certification of Exempt Wholesale Generator Status.

Filed Date: 6/30/25.

Accession Number: 20250630-5288.

Comment Date: 5 p.m. ET 7/21/25.

Docket Numbers: EG25-368-000.

Applicants: Juliet Energy Project, LLC.

Description: Juliet Energy Project, LLC submits Notice of Self-Certification of Exempt Wholesale Generator Status.

Filed Date: 6/30/25.

Accession Number: 20250630-5289.

Comment Date: 5 p.m. ET 7/21/25.

Docket Numbers: EG25-369-000.

Applicants: Jones City Energy Storage, LLC.

Description: Jones City Energy Storage, LLC submits Notice of Self-Certification of Exempt Wholesale Generator Status.

Filed Date: 6/30/25.

Accession Number: 20250630-5290.

Comment Date: 5 p.m. ET 7/21/25.

Docket Numbers: EG25-370-000.

Applicants: Jones City Solar II, LLC.

Description: Jones City Solar II, LLC submits Notice of Self-Certification of Exempt Wholesale Generator Status.

Filed Date: 6/30/25.

Accession Number: 20250630-5291.

Comment Date: 5 p.m. ET 7/21/25.

Docket Numbers: EG25-371-000.

Applicants: Desert Pine Storage, LLC.

Description: Desert Pine Storage, LLC submits Notice of Self-Certification of Exempt Wholesale Generator Status.

Filed Date: 6/30/25.

Accession Number: 20250630-5292.

Comment Date: 5 p.m. ET 7/21/25.

Docket Numbers: EG25-372-000.

Applicants: Desert Pine Solar, LLC.

Description: Desert Pine Solar, LLC submits Notice of Self-Certification of Exempt Wholesale Generator Status.

Filed Date: 6/30/25.

Accession Number: 20250630-5293.

Comment Date: 5 p.m. ET 7/21/25.

Docket Numbers: EG25-373-000.

Applicants: Fiddle Leaf Solar, LLC.

Description: Fiddle Leaf Solar, LLC submits Notice of Self-Certification of Exempt Wholesale Generator Status.

Filed Date: 6/30/25.

Accession Number: 20250630-5294.

Comment Date: 5 p.m. ET 7/21/25.

Take notice that the Commission received the following electric rate filings:

Docket Numbers: ER10-2531-014; ER20-1608-004; ER22-1085-003.

Applicants: Panorama Wind, LLC, Mountain Breeze Wind, LLC, Cedar Creek Wind Energy, LLC.

Description: Updated Triennial Market Power Analysis for Northwest Region of Cedar Creek Wind Energy, LLC, et al.

Filed Date: 6/30/25.

Accession Number: 20250630-5310.

Comment Date: 5 p.m. ET 8/29/25.

Docket Numbers: ER10-2794-038.

Applicants: EDF Trading North America, LLC.

Description: Updated Triennial Market Power Analysis for Southwest Region of EDF Trading North America, LLC.

Filed Date: 6/27/25.

Accession Number: 20250627-5307.

Comment Date: 5 p.m. ET 8/26/25.

Docket Numbers: ER11-4475-017.

Applicants: Rockland Wind Farm LLC.

Description: Triennial Market Power Analysis for Northwest Region of Rockland Wind Farm LLC.

Filed Date: 6/30/25.

Accession Number: 20250630-5309.

Comment Date: 5 p.m. ET 8/29/25.

Docket Numbers: ER17-556-009; ER10-1362-010; ER12-2639-014; ER17-104-011; ER17-105-011; ER21-2330-004; ER21-2331-004; ER21-2333-004; ER21-2336-004; ER23-2426-002.

Applicants: Pattern Energy Management Services LLC, Tecolote Wind LLC, Red Cloud Wind LLC, Duran Mesa LLC, Clines Corners Wind Farm LLC, Broadview Energy JN, LLC, Broadview Energy KW, LLC, Ocotillo Express LLC, Hatchet Ridge Wind, LLC, Grady Wind Energy Center, LLC.

Description: Triennial Market Power Analysis for Southwest Region of Grady Wind Energy Center, LLC, et al.

Filed Date: 6/30/25.

Accession Number: 20250630-5306.

Comment Date: 5 p.m. ET 8/29/25.

Docket Numbers: ER20-464-004; ER11-2335-022.

Applicants: Dynegy Services Plum Point, LLC, Greenleaf Energy Unit 2 LLC.

Description: Triennial Market Power Analysis for Southwest Region of Greenleaf Energy Unit 2 L.L.C., et al.

Filed Date: 6/30/25.

Accession Number: 20250630-5307.

Comment Date: 5 p.m. ET 8/29/25.

Docket Numbers: ER20-608-004.

Applicants: Bear Valley Electric Service, Inc.

Description: Triennial Market Power Analysis for Southwest Region of Bear Valley Electric Service, Inc.

Filed Date: 6/30/25.

Accession Number: 20250630-5308.

Comment Date: 5 p.m. ET 8/29/25.

Docket Numbers: ER21-445-003.

Applicants: Hill Top Energy Center LLC.

Description: Supplement to 06/27/2023, Triennial Market Power Analysis for Northeast Region of Hill Top Energy Center LLC.

Filed Date: 6/27/25.

Accession Number: 20250627-5289.

Comment Date: 5 p.m. ET 7/18/25.

Docket Numbers: ER22-2263-001.

Applicants: Blythe Energy Inc.

Description: Market: Blythe Energy Triennial Filing to be effective N/A.

Filed Date: 7/1/25.

Accession Number: 20250701-5005.

Comment Date: 5 p.m. ET 9/2/25.

Docket Numbers: ER25-2123-001.

Applicants: PJM Interconnection, L.L.C.

Description: Tariff Amendment: Response to Deficiency Notice on Black Start Service Rate Revisions to be effective 9/1/2025.

Filed Date: 6/30/25.

Accession Number: 20250630-5260.

Comment Date: 5 p.m. ET 7/21/25.

Docket Numbers: ER25-2211-000; ER25-2212-000.

Applicants: Prairie Solar 1, LLC, American Beech Solar LLC.

Description: Supplement to 05/13/2025, American Beech Solar LLC, et al., tariff filing.

Filed Date: 6/25/25.

Accession Number: 20250625-5180.

Comment Date: 5 p.m. ET 7/11/25.

Docket Numbers: ER25-2713-000.

Applicants: RWE Clean Energy QSE, LLC.

Description: § 205(d) Rate Filing: Southwest Triennial MBR Update to be effective 7/1/2025.

Filed Date: 6/30/25.

Accession Number: 20250630-5246.

Comment Date: 5 p.m. ET 8/29/25.

Docket Numbers: ER25-2714-000.

Applicants: SEP II, LLC.

Description: § 205(d) Rate Filing: Southwest Triennial MBR Update to be effective 7/1/2025.

Filed Date: 6/30/25.

Accession Number: 20250630-5248.

Comment Date: 5 p.m. ET 8/29/25.

Docket Numbers: ER25-2715-000.

Applicants: RWE Clean Energy O&M, LLC.

Description: § 205(d) Rate Filing: Southwest Triennial MBR Update to be effective 7/1/2025.

Filed Date: 6/30/25.

Accession Number: 20250630-5256.

Comment Date: 5 p.m. ET 8/29/25.

Docket Numbers: ER25-2716-000.

Applicants: EWO Marketing, LLC.

Description: § 205(d) Rate Filing: EWOM-SRMPA SRPSA Capacity Rate Adjustment to be effective 7/1/2025.

Filed Date: 6/30/25.

Accession Number: 20250630-5258.

Comment Date: 5 p.m. ET 7/21/25.

Docket Numbers: ER25-2717-000.

Applicants: Panoche Valley Solar, LLC.

Description: § 205(d) Rate Filing: Southwest Triennial MBR Update to be effective 7/2/2025.

Filed Date: 7/1/25.

Accession Number: 20250701-5000.

Comment Date: 5 p.m. ET 9/2/25.

Docket Numbers: ER25-2718-000.

Applicants: Mesquite Solar 5, LLC.

Description: § 205(d) Rate Filing: Southwest Triennial MBR Update to be effective 7/2/2025.

Filed Date: 7/1/25.

Accession Number: 20250701-5001.

Comment Date: 5 p.m. ET 9/2/25.

Docket Numbers: ER25-2719-000.

Applicants: CED Ducor Solar 1, LLC.

Description: § 205(d) Rate Filing: Southwest Triennial Update to be effective 7/2/2025.

Filed Date: 7/1/25.

Accession Number: 20250701-5002.

Comment Date: 5 p.m. ET 9/2/25.

Docket Numbers: ER25-2720-000.

Applicants: Alpaugh 50, LLC.

Description: § 205(d) Rate Filing: Southwest Triennial to be effective 7/2/2025.

Filed Date: 7/1/25.

Accession Number: 20250701-5003.

Comment Date: 5 p.m. ET 9/2/25.

Docket Numbers: ER25-2721-000.

Applicants: CED Ducor Solar 2, LLC.

Description: § 205(d) Rate Filing: Southwest Triennial Update to be effective 7/2/2025.

Filed Date: 7/1/25.

Accession Number: 20250701-5004.

Comment Date: 5 p.m. ET 9/2/25.

Docket Numbers: ER25-2722-000.

Applicants: Northern Orchard Solar PV, LLC.

Description: § 205(d) Rate Filing: Southwest Triennial Update to be effective 7/2/2025.

Filed Date: 7/1/25.

Accession Number: 20250701-5006.

Comment Date: 5 p.m. ET 9/2/25.

Docket Numbers: ER25-2723-000.

Applicants: CED Ducor Solar 3, LLC.

Description: § 205(d) Rate Filing: Southwest Triennial Update to be effective 7/2/2025.

Filed Date: 7/1/25.

Accession Number: 20250701-5007.

Comment Date: 5 p.m. ET 9/2/25.

Docket Numbers: ER25-2724-000.

Applicants: Mesquite Solar 4, LLC.

Description: § 205(d) Rate Filing: Southwest Triennial MBR Update to be effective 7/1/2025.

Filed Date: 7/1/25.

Accession Number: 20250701-5008.

Comment Date: 5 p.m. ET 9/2/25.

Docket Numbers: ER25-2725-000.

Applicants: Mesquite Solar 3, LLC.

Description: § 205(d) Rate Filing: Southwest Triennial MBR Update to be effective 7/2/2025.

Filed Date: 7/1/25.

Accession Number: 20250701-5009.

Comment Date: 5 p.m. ET 9/2/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 1, 2025.
Carlos D. Clay,
Deputy Secretary.

[FR Doc. 2025-12542 Filed 7-3-25; 8:45 am]

BILLING CODE 6717-01-P